DEPARTMENT OF TRANSPORTATION

Federal Aviation Administration

Twenty First RTCA SC-227 Standards of Navigation Performance Plenary

AGENCY: Federal Aviation Administration (FAA), U.S. Department of Transportation (DOT).

ACTION: Twenty First RTCA SC-227 Standards of Navigation Performance Plenary.

SUMMARY: The FAA is issuing this notice to advise the public of a meeting of Twenty First RTCA SC-227 Standards of Navigation Performance Plenary.

DATES: The meeting will be held December 4-8, 2017, 9:00 a.m.-5:00 p.m.

ADDRESSES: The meeting will be held at: RTCA Headquarters, 1150 18th Street NW., Suite 910, Washington, DC 20036.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Twenty First RTCA SC-227 Standards of Navigation Performance Plenary. The agenda will include the following:

Monday December 4, 2017, 9:00 a.m.-5:00 p.m.

1. Welcome and Administrative Remarks

2. Introduction

3. Review of Minutes from Meeting 20.

4. Agenda Overview

5. Schedule

6. New Business

7. Review and disposition comments received from Final Review and Comment period

8. Review updated TOR

Tuesday December 5, 2017, 9:00 a.m.-5:00 p.m.

9. Continue Plenary Agenda

Wednesday December 8, 2017, 9:00 a.m.-5:00 p.m.

10. Continue Plenary Agenda

Thursday December 7, 2017, 9:00 a.m.-5:00 p.m.

11. Continue Plenary Agenda

Friday December 8, 2017, 9:00 a.m.-5:00 p.m.

12. Continue Plenary Agenda

13. Adjourn when Agenda is complete

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on November 2, 2017.
Mohannad Dawoud,
Management & Program Analyst, Partnership Contracts Branch, ANG-A17, NextGen, Procurement Services Division, Federal Aviation Administration.

[FR Doc. 2017-24219 Filed 11-6-17; 8:45 am]

BILLING CODE 4910-13-P